INTERNATIONAL TRADE COMMISSION

[Investigation No. 332-554]

Generalized System of Preferences: Possible Modifications, 2014 Review

AGENCY: United States International Trade Commission.

ACTION: Notice of institution of investigation and opportunity to furnish information.

SUMMARY: Following receipt of a request on June 30, 2015, from the United States Trade Representative (USTR), the U.S. International Trade Commission (Commission) instituted investigation No. 332-554, Generalized System of Preferences: Possible Modifications, 2014 Review, for the purpose of providing such advice and information.

DATES: July 30, 2015: Deadline for filing all written submissions.

August 28, 2015: Transmittal of Commission report to the United States Trade Representative.

ADDRESSES: All Commission offices, including the Commission's hearing rooms, are located in the United States International Trade Commission Building, 500 E Street SW., Washington, DC. All written submissions should be addressed to the Secretary, United States International Trade Commission, 500 E Street SW., Washington, DC 20436. The public record for this investigation may be viewed on the Commission's electronic docket (EDIS) at http://www.usitc.gov/secretary/edis.htm.

FOR FURTHER INFORMATION CONTACT: Information specific to this investigation may be obtained from Cynthia B. Foreso, Project Leader, Office of Industries (202-205-3348 or cynthia.foreso@usitc.gov) or Sabina Neumann, Deputy Project Leader, Office of Industries (202-205-3000 or sabina.neumann@usitc.gov). For information on the legal aspects of this investigation, contact William Gearhart of the Commission's Office of the General Counsel (202-205-3091 or william.gearhart@usitc.gov). The media should contact Margaret O'Laughlin, Office of External Relations (202-205-1819 or margaret.olaughlin@usitc.gov). Hearing-impaired individuals may obtain information on this matter by contacting the Commission's TDD terminal at 202-205-1810. General information concerning the Commission may also be obtained by accessing its Web site (http://www.usitc.gov). Persons with mobility impairments who will need special assistance in gaining access to the Commission should contact the Office of the Secretary at 202-205-2000.

Background: Advice concerning waiver of competitive need limitations. In his letter the USTR requested, under authority delegated by the President, pursuant to section 332(g) of the Tariff Act of 1930 (19 U.S.C. 1332(g)), and in accordance with section 503(d)(1)(A) of the Trade Act of 1974 (19 U.S.C. 2463(d)(1)(A)), that the Commission provide advice on whether any industry in the United States is likely to be adversely affected by a waiver of the competitive need limitations specified in section 503(c)(2)(A) of the Trade Act of 1974 for two articles from Thailand: HTS 2008.19.15 (Coconuts, otherwise prepared or preserved, nesoi) and HTS 7408.29.10 (Copper alloys (o/than brass, cupro-nickel or nickel-silver), wire, coated or plated with metal).

Pursuant to section 332(g) and in accordance with section 503(c)(2)(E) of the 1974 Act the USTR also requested that the Commission provide its advice with respect to whether like or directly competitive products were being produced in the United States on January 1, 1995. The USTR also requested that the Commission provide its advice as to the probable economic effect on total U.S. imports, as well as on consumers, of the requested waivers.

Data relating to certain cotton articles. Pursuant to section 332(g) of the Tariff Act of 1930, the USTR requested that the Commission provide data on U.S. production, imports, exports, and consumption for the period 2012-2014 for the following articles: HTS 5201.00.18 (Cotton, not carded or combed, having a staple length under 28.575 mm (1⅛ inches), n/harsh or rough, nesoi), HTS 5201.00.28 (Cotton not carded or combed, harsh or rough, staple length of 29.36875 mm or more but under 34.925 mm & white in color, nesoi), HTS 5201.00.38 (Cotton, not carded or combed, staple length of 28.575 mm or more but under 34.925 mm, nesoi), HTS 5202.99.30 (Cotton card strips made from cotton waste having staple length under 30.1625 mm & lap, sliver & roving waste, nesoi), and HTS 5203.00.30 (Cotton fibers, carded or combed, of cotton fiber processed, but not spun, nesoi). The USTR requested that the Commission, to the extent practicable, provide the requested data separately and individually for each U.S. Harmonized Tariff Schedule subheading subject to this request.

The USTR noted that his office had previously notified the Commission that these five cotton articles were being considered for designation as eligible articles under the GSP program for least-developed beneficiary developing countries only, and that the Commission had provided its advice in May 2012 (in its report on investigation No. 332-529) as to the probable economic effect of the elimination of U.S. import duties on those articles for least-developed beneficiary developing countries under the GSP program.

Time for reporting, possible classification of report. As requested by USTR, the Commission will provide its advice by August 28, 2015. The USTR indicated that those sections of the Commission's report and related working papers that contain the Commission's advice will be classified as “confidential,” and that USTR considers the Commission's report to be an inter-agency memorandum that will contain pre-decisional advice and be subject to the deliberative process privilege.

Written Submissions: Interested parties are invited to file written submissions concerning this investigation. All written submissions should be addressed to the Secretary, and should be received not later than 5:15 p.m., July 30, 2015. All written submissions must conform with the provisions of section 201.8 of the Commission's Rules of Practice and Procedure (19 CFR 201.8). Section 201.8 and the Commission's Handbook on Filing Procedures require that interested parties file documents electronically on or before the filing deadline and submit eight (8) true paper copies by 12:00 p.m. eastern time on the next business day. In the event that confidential treatment of a document is requested, interested parties must file, at the same time as the eight paper copies, at least four (4) additional true paper copies in which the confidential information must be deleted (see the following paragraph for further information regarding confidential business information). Persons with questions regarding electronic filing should contact the Secretary (202-205-2000).

Any submissions that contain confidential business information must also conform with the requirements of section 201.6 of the Commission's Rules of Practice and Procedure (19 CFR 201.6). Section 201.6 of the rules requires that the cover of the document and the individual pages be clearly marked as to whether they are the “confidential” or “non-confidential” version, and that the confidential business information is clearly identified by means of brackets. All written submissions, except for confidential business information, will be made available for inspection by interested parties.

The Commission may include in the report it sends to the President and the USTR some or all of the confidential business information it receives in this investigation. The USTR has asked that the Commission make available a public version of its report shortly after it sends its report to the President and the USTR, with any classified or privileged information deleted. Any confidential business information received in this investigation and used in the preparation of the report will not be published in the public version of the report in such a manner as would reveal the operations of the firm supplying the information.

Summaries of Written Submissions: The Commission intends to publish summaries of the positions of interested persons. Persons wishing to have a summary of their position included in the report should include a summary with their written submission. The summary may not exceed 500 words, should be in MSWord format or a format that can be easily converted to MSWord, and should not include any confidential business information. The summary will be published as provided if it meets these requirements and is germane to the subject matter of the investigation. The Commission will identify the name of the organization furnishing the summary and will include a link to the Commission's Electronic Document Information System (EDIS) where the full written submission can be found.

By order of the Commission.
Issued: July 13, 2015.
Lisa R. Barton,
Secretary to the Commission.

[FR Doc. 2015-17418 Filed 7-15-15; 8:45 am]

BILLING CODE 7020-02-P